DEPARTMENT OF THE INTERIOR

Bureau of Land Management

[CO-14000-01-1220-AF]

Shooting Closure Order on North Hardscrabble Access Road in Glenwood Springs Field Office; CO

AGENCY: Bureau of Land Management, Department of the Interior.

ACTION: Shooting closure order.

SUMMARY: This order, issued under the authority of 43 CFR 8364.1 closes public lands along the North Hardscrabble Access Road to recreational target shooting for the purpose of enhancing public safety. For this closure order, recreational target shooting is defined as the discharge of any weapon for any purpose other than the lawful taking of a game animal recognized by the State of Colorado. This order applies to public land administered by BLM in Township 5 South, Range 85 West, Section 10, Tract 80 and Lot 7, and in Section 15, Lot 2 and Lot 3, 6th Principal Meridian; Eagle County. The affected public land is generally located east and south of the Town of Gypsum, CO, off of Eagle County Spring Creek Road, 102A.

This action is in accordance with the Glenwood Springs Resource Management Plan, Record of Decision (BLM, 1984). This order, issued under the authority of 43 CFR 8364.1, is established to protect persons, property, public lands and resources.

EFFECTIVE DATES: The restriction shall be effective upon publication until rescinded or modified by the Authorized Officer.

SUPPLEMENTARY INFORMATION: Federal Register Notice CO-070-4333-13-241A, published January 2, 1992 closed land administered by the Bureau to camping, parking and discharge of firearms to land in T 5 S, R 85 W, Tract 80, also known as Lot 2 of O.R.E.O. Subdivision, 6th Principal Meridian, within 30 feet from the centerline of the North Hardscrabble Access Road. That restriction has not been sufficient in protecting adjacent land owners from the target shooting that takes place on BLM.

The area and routes affected by this order will be posted with appropriate regulatory signs in such a manner and location as is reasonable to bring prohibitions to the attention of visitors. Information, including maps of the restricted area, is available in the Glenwood Springs Field Office at the addresses shown below.

Persons who are exempt from the restrictions include: (1) Any Federal, State, or local officers engaged in fire, emergency and law enforcement activities; (2) BLM employees engaged in official duties.

Penalties

Any person who fails to comply with the provisions of this order may be subject to penalties outlined in 43 CFR 8360.0-7. Violations of this closure are punishable by a fine not to exceed $1,000 and/or imprisonment not to exceed 12 months.

ADDRESSES: Field Office Manager, Glenwood Springs Field Office, Bureau of Land Management, 50629 Highway 6 & 24, P.O. Box 1009, Glenwood Springs, CO 81602.

FOR FURTHER INFORMATION CONTACT: Dorothy Morgan (970) 947-2806.

Anne Huebner,
Glenwood Springs Field Office Manager.

[FR Doc. 01-4968 Filed 2-28-01; 8:45 am]

BILLING CODE 4310-JB-P